DEPARTMENT OF THE TREASURY

Submission for OMB Review; Comment Request

April 27, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 7, 2004 to be assured of consideration.

Internal Revenue Service (IRS)

OMB Number: 1545-0170.

Form Number: IRS Form 4466.

Type of Review: Extension.

Title: Corporation application for Quick Refund of Overpayment of Estimated Tax.

Description: Form 4466 is used by a corporation to file for an adjustment (quick refund) of overpayment of estimated income tax return for the tax year. This information is used to process the claim, so the refund can be issued.

Respondents: Business or other for-profit.

Estimated Number of Respondents/Recordkeepers: 16,125.

Estimated Burden Hours Respondent/Recordkeeper

Recordkeeping—4 hr., 4 min.

Learning about the law or the form—18 min.

Preparing, copying, and sending the form to the IRS—22 min.

Frequency of response: On occasion.

Estimated Total Reporting/Recordkeeping Burden: 76,433 hours.

OMB Number: 1545-0213.

Form Number: IRS Form 5578.

Type of Review: Extension.

Title: Annual Certification of Racial Nondiscrimination for a Private School Exempt from Federal Income Tax.

Description: Form 5578 is used by private schools that do not file Schedule A (Form 990) to certify that they have a racially nondiscriminatory policy toward students as outlined in Revenue Procedure 75-50. The Internal Revenue Service uses the information to help ensure that the school is maintaining a nondiscriminatory policy in keeping with its exempt status.

Respondents: Not-for-profit institutions.

Estimated Number of Respondents/Recordkeepers: 1,000.

Estimated Burden Hours Respondent/Recordkeeper:

Recordkeeping—2 hr., 52 min.

Learning about the law or the form—24 min.

Preparing and sending the form to the IRS—27 min.

Frequency of response: Annually.

Estimated Total Reporting/Recordkeeping Burden: 3,730 hours.

OMB Number: 1545-1308.

Regulation Project Number: PS-260-82 Final.

Type of Review: Extension.

Title: Election, Revocation, Termination, and Tax Effect of Subchapter S Status.

Description: Sections 1-1362 through 1.1362-7 of the Income Tax Regulations provide the specific procedures and requirements necessary to implement section 1362, including the filing of various elections and statements with the Internal Revenue Service.

Respondents: Individuals or households, business or other for-profit, farms.

Estimated Number of Respondents/Recordkeepers: 133.

Estimated Burden Hours Respondent/Recordkeeper: 2 hours, 25 minutes.

Frequency of response: On occasion.

Estimated Total Reporting/Recordkeeping Burden: 322 hours.

OMB Number: 1545-1461.

Regulation Project Number: INTL-24-94 Final.

Type of Review: Extension.

Title: Taxpayer Identifying Numbers (TINs).

Description: This regulation relates to requirements for furnishing a taxpayer identifying number on returns, statements, or other documents. Procedures are provided for requesting a taxpayer identifying number for certain alien individuals for whom a social security number is not available. The regulation also requires foreign persons to furnish a taxpayer identifying number on their tax returns.

Respondents: Individuals or households.

Estimated Number of Respondents/Recordkeepers: 1.

Estimated Burden Hours Respondent/Recordkeeper: 1 hour.

Frequency of response: On occasion, annually.

Estimated Total Reporting/Recordkeeping Burden: 1 hour.

OMB Number: 1545-1599.

Regulation Project Number: REG-208299-90 NPRM.

Type of Review: Extension.

Title: Allocation and Sourcing of Income and Deductions Among Taxpayers Engaged in a Global Dealing Operation.

Description: The information requested in sections 1.475(g)-2(b), 1.482-8(b)(3), (c)(3), (e)(5), (e)(6), (d)(3), and 1.863-3(h) is necessary for the Service to determine whether the taxpayer has entered into controlled transactions at an arm's length price.

Respondents: Business or other for-profit.

Estimated Number of Recordkeepers: 500.

Estimated Burden Hours Recordkeeper: 40 hours.

Estimated Total Recordkeeping Burden: 20,000 hours.

OMB Number: 1545-1859.

Notice Number: Notice 2004-11.

Type of Review: Extension.

Title: Research Credit Record Retention Agreements.

Description: The notice announces a pilot program in which the Internal Revenue Service and large and mid-size business taxpayers may enter into research credit recordkeeping agreements (RCRAs). If the taxpayer complies with the terms of RCRA, the Service will deem the taxpayer to satisfy the recordkeeping requirements of section 6001 for purposes of the credit for increasing research activities under section 41 of the Internal Revenue Code.

Respondents: Business or other for-profit.

Estimated Number of Respondents: 65.

Estimated Burden Hours Respondent: 18 hours.

Frequency of response: On occasion.

Estimated Total Reporting Burden: 1,170 hours.

OMB Number: 1545-1875.

Revenue Procedure Number: Revenue Procedure 2004-12.

Type of Review: Extension.

Title: Health Insurance Costs of Eligible Individuals.

Description: Revenue Procedure 2004-12 informs states how to elect a health program to be qualified health insurance for the purposes of the health coverage tax credit (HCTC) under section 35 of the Internal Revenue Code. The collection of information is voluntary. However, if a state does not make an election, eligible residents of the state may be impeded in their efforts to claim the HCTC.

Respondents: State, Local or Tribal Government.

Estimated Number of Respondents: 51.

Estimated Burden Hours Respondent: 30 minutes.

Frequency of response: Other (one-time election).

Estimated Total Reporting Burden: 26 hours.

OMB Number: 1545-1877.

Revenue Procedure Number: Revenue Procedure 2004-18.

Type of Review: Extension.

Title: Average Area Purchase Price Safe Harbors and Nationwide Purchase Prices under section 143.

Description: Revenue Procedure 2004-18 provides issuers of qualified mortgage bonds, as defined in section 143(a) of the Internal Revenue Code, and issuers of mortgage credit certificates, as defined in section 25(c), with (1) nationwide average purchase prices for residences located in the United States, and (2) average area purchase price safe harbors for residences located in statistical areas in each state, the District of Columbia, Puerto Rico, the Northern Mariana Islands, American Samoa, the Virgin Islands, and Guam.

Respondents: State, Local or Tribal Government.

Estimated Number of Recordkeepers: 60.

Estimated Burden Hours Recordkeeper: 15 minutes.

Estimated Total Recordkeeping Burden: 15 hours.

Clearance Officer: Glenn P. Kirkland, (202) 622-3428, Internal Revenue Service, Room 6411-03, 1111 Constitution Avenue, NW., Washington, DC 20224.

OMB Reviewer: Joseph F. Lackey, Jr.,. (202) 395-7316, Office of Management and Budget, Room 10235, New Executive Office Building, Washington, DC 20503.

Lois K. Holland,
Treasury PRA Clearance Officer.

[FR Doc. 04-10413 Filed 5-6-04; 8:45 am]

BILLING CODE 4830-01-P